Title 3—

The President

Proclamation 10792 of August 16, 2024

Establishment of the Springfield 1908 Race Riot National Monument

By the President of the United States of America

A Proclamation

In August 1908, mere blocks from the former home of President Abraham Lincoln, a white mob attacked the Black community in Springfield, Illinois, lynching two Black Americans and burning homes down to their foundations. By the time the National Guard quelled the violence, the mob had looted and destroyed businesses, razed city blocks, and displaced hundreds of people from their homes. Labeled by the media as a race riot, the event was emblematic of the racism, intimidation, violence, and lynchings that Black Americans experienced in communities across the country in the late 19th and early 20th Centuries. The horror that became known as the Springfield 1908 Race Riot drew the attention of national newspapers and Black and white activists interested in social change. In the wake of the devastation and ensuing outcry, a group of visionary civic leaders launched the National Association for the Advancement of Colored People, which went on to achieve momentous civil rights victories and continues to work toward racial justice and equity.

Today, the foundations of destroyed homes and the objects they contain are tangible markers of these historic events and reminders of the impact that the Springfield 1908 Race Riot had on our Nation. The area located between North 9th and 11th Streets, and between East Mason and East Madison Streets, constitutes the Springfield 1908 Race Riot Site. This site weaves together two important threads in our Nation's story: the hateful violence targeted against Black Americans, and the power of dedicated individuals to come together across racial lines to transform shock and grief into hope and action.

At the turn of the 20th Century, the United States was still struggling to fulfill the promises of the Thirteenth, Fourteenth, and Fifteenth Amendments to the Constitution—amendments that abolished slavery; guaranteed due process and equal protection under the law; and prohibited abridgement of the right to vote on account of race, color, or previous condition of servitude. Numerous States and municipalities, primarily in the South, passed anti-Black legislation, including Jim Crow laws, to enforce racial segregation and to maintain white structural power by restricting Black people's daily lives. As millions of Black people migrated to towns and cities in the North seeking a better life, they were often confronted with racial bias, segregated schools, discriminatory and restrictive housing practices, and other forms of discrimination. Black people were also subjected to a nationwide wave of racial violence that began after the Civil War. Between 1882 and 1910, there were 2,503 recorded lynchings of Black people in the United States. Many lynchings during this grim chapter of American history occurred during riots led by white mobs engaged in a broader pattern of violence, similar to the one that took place in Springfield.

There, on Friday, August 14, 1908, a crowd of mostly white men gathered outside the Sangamon County Jail, which was 2 blocks from the edge of the Badlands neighborhood, a community northeast of the center of the city that included many low-income Black residents and families. The mob was calling for the lynching of two Black men: Joe James and George Richardson. James stood accused of the murder of a white man and attempted assault on his daughter. Richardson was accused of sexually assaulting a white woman.

The sheriff, hoping to defuse the situation and avoid the white-mob lynchings that had occurred in similar circumstances, arranged for the two men to be quietly transferred to a jail in another town. Harry Loper, a local white leader who shared the sheriff's concerns, agreed to help with the transfer. When the crowd learned of the sheriff's and Loper's actions, it erupted in violence. The mob wreaked havoc and destruction in the surrounding Badlands and Levee neighborhoods—attacking and destroying dozens of Black-owned businesses and residences, as well as some Jewish-owned businesses and other businesses that served the predominantly Black community. Loper also paid a price for helping the men; after he returned, the mob set fire to his car and vandalized his restaurant.

One of the buildings the mob torched was in the Badlands neighborhood on 12th Street between Madison and Mason Streets where Scott Burton, a Black barber, was trying to protect his home. At approximately 2:30 a.m. on Saturday, August 15, 1908, the mob beat Burton into unconsciousness before dragging him half a block south to the corner of Madison and 12th Streets. There, he was further brutalized and hanged from a tree, and he died from his injuries. All the while, the rioters celebrated his lynching.

On Saturday, the second day of the riot, the violence briefly abated as State militia reinforcements arrived and Governor Charles Deneen designated the Illinois State Arsenal as a temporary refuge for Black residents. Black firefighters of Firehouse No. 5 responded to fires and fought to quench the flames and save the homes of Black residents and Black-owned businesses, even after being dismissed by the Mayor of Springfield. Despite these actions, by 7:00 p.m. Saturday evening, crowds again amassed and resumed the mob violence of the previous night.

That same day, the riot reached the home of William K. Donnegan, a Black 84-year-old retired cobbler who had made shoes for Abraham Lincoln and served as an Underground Railroad operative. Donnegan was married to a white woman and lived with his family in a nearby middle-class white neighborhood. On Saturday night, a group of white men gathered outside of Donnegan's house, beat him with bricks, and cut his throat with a razor. They dragged him across the street and hanged him from a tree in the neighboring schoolyard, just 2 blocks from the Illinois State Capitol. The police and National Guard personnel found Donnegan still alive, and took him to St. John's Hospital, where he received medical care along with other people injured in the riot—Black and white alike. Although he survived the night, he died the next day from his injuries.

Soon after the riot, George Richardson's accuser issued a signed statement confessing that her assailant had in fact been a white man. Joe James's story took a different turn. His lawyer tried to remove James's case from Sangamon County, arguing he would not be able to get an impartial jury there, but those efforts failed and James was tried and convicted in the same community that carried out the race riot. On October 23, 1908, James was executed by hanging at the Sangamon County Jail. Only one white rioter was convicted of a violent crime in connection with the destruction wrought on Springfield's Black community. In a poignant postscript, the two men lynched, Scott Burton and William K. Donnegan, were laid to rest in the same Springfield cemetery as President Lincoln.

The national and local press covered the Springfield 1908 Race Riot extensively. The devastation of the Badlands neighborhood and nearby sites captured the attention of prominent civil rights leaders and spurred new action. In response to the Springfield 1908 Race Riot, an interracial group of dozens of civil rights leaders, including W.E.B. Du Bois, William English Walling, Mary White Ovington, Ida B. Wells-Barnett, and Mary Church Terrell, issued an open letter in February 1909 “taking stock of the nation's progress” on the centennial of Lincoln's birth. Invoking Lincoln's words from 1858 that “[a] house divided against itself cannot stand,” the group “call[ed] upon all the believers in democracy to join in a national conference for the discussion of present evils, the voicing of protests, and the renewal of the struggle for civil and political liberty.”

This call led to a meeting in the spring of 1909 of a group initially called the National Negro Committee to discuss forming a permanent, national organization that would advocate to combat lynching and racial prejudice, improve the lives of Black Americans, and secure the civil and political rights guaranteed to them by the Constitution. On May 12, 1910, the National Negro Committee formally named the new organization the National Association for the Advancement of Colored People (NAACP).

For more than a century, the NAACP has been at the forefront of key legal and political movements to end lynching, remove barriers of racial discrimination, and advance civil and political rights. The NAACP and its legal team devised the transformative, decades-long legal strategy culminating in Brown v. Board of Education (1954), in which the Supreme Court declared the “separate but equal” doctrine to be unconstitutional and gutted the legal underpinnings of segregation and Jim Crow laws.

The NAACP, along with partners and allies, turned the Springfield 1908 Race Riot's legacy from one of tragedy alone into one that led to enduring progress and change. Yet those violent and fateful days had persistent discriminatory effects on Springfield. Although the rioters did not succeed in driving Black residents from the city entirely, their actions led to the displacement of Black people from the Badlands and other affected neighborhoods and paved the way for so-called “urban renewal projects” that erased much of the neighborhoods' physical imprint. One of the country's first public housing projects was constructed on remnants of the Badlands neighborhood. The 8-block John Hay Homes housing complex, built in the 1940s, provided low-income housing, primarily to white people. The John Hay Homes and other projects drastically altered the landscape, demolishing blocks of structures to develop facilities including high-rise apartments, low-rent apartments, an expressway, and a civic center.

Notwithstanding the changes to the surrounding neighborhoods, the Springfield 1908 Race Riot Site, a 2-block area stretching northward from East Madison Street between North 9th and 11th Streets, still contains archeological remains and scars of the riot. The site, which has been identified as the approximate point where the violent assault on the Badlands neighborhood began in 1908, provides some of the last physical remains of the race riot and the neighborhood it destroyed, including the charred foundations of five houses burned by the white mob in 1908.

Archeological excavations of the site have uncovered other historic objects remaining at the site, including a partial cellar, stone steps, and a brick walk. This area and the archeological artifacts it contains have a singular ability to tell the story of the race riot and its impacts on Black residents at this pivotal point in Springfield and the Nation's history.

Archeological studies have concluded that the site likely contains significant additional resources and artifacts that could help further illuminate the history of the Badlands neighborhood. In addition to the five burned houses, the site encompasses the plots of several other buildings demolished in the riot. Spared the architectural erasure of urban renewal, the Springfield 1908 Race Riot Site can help bring greater attention to this chapter in American history. The National Park Service has recognized the historical significance of this site to civil rights history by adding it to the African American Civil Rights Network.

Preservation of the Springfield 1908 Race Riot Site will protect the objects of historic interest found therein from removal, development, or other activities that could erase their presence in the area. It will also ensure that the site and its objects remain available for future generations to learn about the Springfield 1908 Race Riot and how this brutal event near President Lincoln's home underscored the pattern of racially motivated violence perpetrated on Black people throughout the country and catalyzed the formation of the NAACP. Ida B. Wells-Barnett, one of the co-founders of the NAACP and a national hero who led the campaign against lynching, described the Springfield 1908 Race Riot as showing that “the hue and cry once started stops at no bounds.” Protecting the Springfield 1908 Race Riot Site is essential to preserve and narrate the history that galvanized civil rights leaders to establish an institution to work for real and lasting change, creating hope for our democracy out of the embers of this neighborhood in Springfield, Illinois.

WHEREAS, section 320301 of title 54, United States Code (the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, the Springfield 1908 Race Riot Site preserves some of the last remaining objects of historic interest from the Springfield 1908 Race Riot, memorializes the area where these tragic and notorious events occurred, and has been found to meet the criteria for national significance by the National Park Service in its June 2023 Special Resource Study; and

WHEREAS, the City of Springfield, Illinois, has expressed support for the establishment of a national monument to be administered by the National Park Service; and

WHEREAS, the City of Springfield has donated fee interest in approximately 0.39 acres of city-owned land within the Springfield 1908 Race Riot Site to the National Park Foundation; and

WHEREAS, St. John's Hospital of the Hospital Sisters of the Third Order of St. Francis has donated fee interest in approximately 1.18 acres of land within the Springfield 1908 Race Riot Site to the National Park Foundation; and

WHEREAS, the National Park Foundation has relinquished and conveyed all of the lands and interests in lands associated with the Springfield 1908 Race Riot Site described above to the Federal Government for the purpose of establishing a unit of the National Park System; and

WHEREAS, the City of Springfield owns additional land within the Springfield 1908 Race Riot Site that potentially contains archeological artifacts and has indicated an interest in making further land donations in the future; and

WHEREAS, the designation of a national monument to be administered by the National Park Service would recognize the historic significance of the Springfield 1908 Race Riot Site, particularly the events that took place at these locations from August 14-16, 1908, and their role in inspiring the formation of a national civil rights organization, and would provide a national platform for preserving and interpreting this important history; and

WHEREAS, I find that all the objects identified above, and objects of the type identified above within the area described herein, are objects of historic interest in need of protection under section 320301 of title 54, United States Code, regardless of whether they are expressly identified as objects of historic interest in the text of this proclamation; and

WHEREAS, I find that the boundaries of the monument reserved by this proclamation represent the smallest area compatible with the proper care and management of the objects of historic interest identified above, as required by the Antiquities Act; and

WHEREAS, it is in the public interest to preserve and protect the objects of historic interest associated with the Springfield 1908 Race Riot;

NOW, THEREFORE, I, JOSEPH R. BIDEN JR., President of the United States of America, by the authority vested in me by section 320301 of title 54, United States Code, hereby proclaim the objects identified above that are situated upon lands and interests in lands owned or controlled by the Federal Government to be part of the Springfield 1908 Race Riot National Monument (monument) and, for the purpose of protecting those objects, reserve as part thereof all lands and interests in lands owned or controlled by the Government of the United States within the boundaries described on the accompanying map, which is attached to and forms a part of this proclamation. The reserved Federal lands and interests in lands within the monument's boundaries encompass approximately 1.57 acres. The boundaries described on the accompanying map are confined to the smallest area compatible with the proper care and management of the objects to be protected.

All Federal lands and interests in lands within the boundaries of the monument are hereby appropriated and withdrawn from all forms of entry, location, selection, sale, leasing, or other disposition under the public land laws, including withdrawal from location, entry, and patent under the mining laws, and from disposition under all laws relating to mineral and geothermal leasing.

The establishment of the monument is subject to valid existing rights. If the Federal Government acquires any lands or interests in lands not owned or controlled by the Federal Government within the boundaries described on the accompanying map, such lands and interests in lands shall be reserved as part of the monument, and objects of the type identified above that are situated upon those lands and interests in lands shall be part of the monument, upon acquisition of ownership or control by the Federal Government.

The Secretary of the Interior shall manage the monument through the National Park Service, pursuant to applicable legal authorities and consistent with the purposes and provisions of this proclamation. For the purpose of preserving, interpreting, and enhancing the public understanding and appreciation of the monument, the Secretary of the Interior, through the National Park Service, shall prepare a management plan for the monument. The management plan shall ensure that the monument fulfills the following purposes for the benefit of present and future generations: (1) to preserve the historic and cultural resources within the boundaries of the monument; (2) to interpret the story of the Springfield 1908 Race Riot and its significance to the history of racial violence that occurred across the Nation; and (3) to commemorate the history of the Civil Rights Movement and civic leaders' work to build transformative organizations, including the NAACP. The National Park Service shall develop the management plan in consultation with local communities, organizations, and the general public to set forth the desired relationship of the monument to and support for other sites evaluated in the Springfield Race Riot Special Resource Study such as the Badlands Riot Area, the Levee Riot Area, the Sangamon County Courthouse/Old State Capitol, Firehouse No. 5, the home of Mabel Hallam, Kate Howard's Boarding House, the site of Scott Burton's lynching, the site of William Donnegan's lynching, the Illinois Executive Mansion, Camp Lincoln, St. John's Hospital, and the gravesites of Scott Burton and William Donnegan in Oak Ridge Cemetery.

The National Park Service shall consult with appropriate Federal, State, and local agencies and nongovernmental organizations in planning for interpretation, appropriate commemorative design, and visitor access and services at the monument.

The National Park Service is directed, as appropriate, to use applicable authorities to seek to enter into agreements with other entities to address common interests and promote management efficiencies, including the provision of visitor services, interpretation and education, establishment and care of museum collections, and commemoration and preservation of historic objects. These entities may include the Lincoln Presidential Foundation, the NAACP, the Springfield and Central Illinois African American History Museum, and the American Civil Liberties Union.

Nothing in this proclamation shall be deemed to revoke any existing withdrawal, reservation, or appropriation; however, the monument shall be the dominant reservation.

Warning is hereby given to all unauthorized persons not to appropriate, injure, destroy, or remove any feature of the monument and not to locate or settle upon any of the lands thereof.

If any provision of this proclamation, including its application to a particular parcel of land, is held to be invalid, the remainder of this proclamation and its application to other parcels of land shall not be affected thereby.

IN WITNESS WHEREOF, I have hereunto set my hand this sixteenth day of August, in the year of our Lord two thousand twenty-four, and of the Independence of the United States of America the two hundred and forty-ninth.

Billing code 3395-F4-P

[FR Doc. 2024-18999

Filed 8-21-24; 8:45 am]

Billing code 4310-10-C